DEPARTMENT OF HOMELAND SECURITY

Federal Emergency Management Agency

[Docket ID FEMA-2010-0045]

Recovery Fact Sheet 9580.203, Debris Monitoring

AGENCY: Federal Emergency Management Agency, DHS.

ACTION: Notice of availability; request for comments.

SUMMARY: The Federal Emergency Management Agency (FEMA) is accepting comments on Recovery Fact Sheet 9580.203, Debris Monitoring.

DATES: Comments must be received by September 1, 2010.

ADDRESSES: Comments must be identified by docket ID FEMA-2010-0045 and may be submitted by one of the following methods:

Federal eRulemaking Portal: http://www.regulations.gov. Follow the instructions for submitting comments. Please note that this proposed fact sheet is not a rulemaking and the Federal Rulemaking Portal is being utilized only as a mechanism for receiving comments.

Mail: Regulation & Policy Team, Office of Chief Counsel, Federal Emergency Management Agency, Room 835, 500 C Street, SW., Washington, DC 20472-3100.

FOR FURTHER INFORMATION CONTACT: Byron Mason, Federal Emergency Management Agency, 500 C Street, SW., Washington, DC 20472, 202-646-4368.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed Fact Sheet is available in docket ID FEMA-2010-0045. For access to the docket to read background documents or comments received, go to the Federal eRulemaking Portal at http://www.regulations.gov and search for the docket ID. Submitted comments may also be inspected at FEMA, Office of Chief Counsel, Room 835, 500 C Street, SW., Washington, DC 20472.

II. Background

This Fact Sheet provides Public Assistance applicants with information on how to properly monitor debris removal operations to ensure compliance with Public Assistance guidelines. Specifically, the fact sheet provides information on debris monitoring roles and responsibilities, monitoring requirements by type of contract, monitoring contracts, reporting requirements and performance measures, and contract procurement requirements.

FEMA seeks comment on the proposed fact sheet, which is available online at http://www.regulations.gov in docket ID FEMA-2010-0045. Based on the comments received, FEMA may make appropriate revisions to the proposed fact sheet. Although FEMA will consider any comments received in the drafting of the final fact sheet, FEMA will not provide a response to comments document. When or if FEMA issues a final fact sheet, FEMA will publish a notice of availability in the Federal Register and make the final fact sheet available at http://www.regulations.gov.

Authority: 42 U.S.C. 5121-5207; 44 CFR parts 13 and 206.

David J. Kaufman,
Director, Office of Policy and Program Analysis, Federal Emergency Management Agency.

[FR Doc. 2010-18943 Filed 7-30-10; 8:45 am]

BILLING CODE 9111-23-P